DEPARTMENT OF TRANSPORTATION

Office of the Secretary

[Docket No. DOT-OST-2008-0388]

Revision of a Previously Approved Collection: Public Charters, 14 CFR Part 380

AGENCY: Office of the Secretary, Department of Transportation.

ACTION: Notice.

SUMMARY: In accordance with the Paperwork Reduction Act of 1995, Public Law 104-13, (44 U.S.C. 3501 et seq.), this notice announces that the Information Collection Request (ICR), abstracted below, is being forwarded to the Office of Management and Budget (OMB) for renewal of currently approved Public Charters, 14 CFR part 380. Earlier, a Federal Register Notice with a 60-day comment period was published on May 21, 2009 (74 FR 23925). The agency did not receive any comments to its notice.

DATES: Written comments should be submitted by August 26, 2009.

FOR FURTHER INFORMATION CONTACT: Ms. Reather Flemmings (202-366-1865) and Ms. Torlanda Archer (202-366-1037), U.S. Department of Transportation, Office of the Secretary, Office of International Aviation, Special Authorities Division, X-46, 1200 New Jersey Avenue, SE., W86-445, Washington, DC 20590.

Comment: Comments should be sent to OMB at the address that appears below and should identify the associated OMB Approval Number 2106-0005 and Docket No. DOT-OST-2008-0388.

SUPPLEMENTARY INFORMATION:

OMB Control Number: 2106-0005.

Title: Public Charters, 14 CFR part 380.

Form Numbers: 4532, 4533, 4534, 4535.

Type of Review: Revision of a currently approved collection: The current OMB inventory has decreased the changes are listed below.

Respondents: Private Sector: Air carriers; tour operators; the general public (including groups and individuals, corporations and Universities or Colleges, etc.)

Number of Respondents: 245.

Number of Responses: 1,782.

Total Annual Burden: 891.

Needs and Uses: 14 CFR part 380 establishes the regulations of the Department's terms and conditions governing Public Charter operators to conduct air transportation using direct air carriers. Public Charter operators arrange transportation for groups of people on chartered aircraft. This arrangement is less expensive for the travelers than individually buying a ticket. Part 380 exempts charter operators from certain provisions of the U.S. code in order that they may provide this service. A primary goal of part 380 is to seek protection for the consumer. Accordingly, the rule stipulates that the charter operator must file evidence (a prospectus—consisting of OST Forms 4532, 4533, 4534 and 4535) with the Department for each charter program certifying that it has entered into a binding contract with a direct air carrier to provide air transportation and that it has also entered into agreements with Department-approved financial institutions for the protection of charter participants' funds. The prospectus must be approved by the Department prior to the operator's advertising, selling or operating the charter. If the prospectus information were not collected it would be extremely difficult to assure compliance with agency rules and to assure that public security and other consumer protection requirements were in place for the traveling public. The information collected is available for public inspection (unless the respondent specifically requests confidential treatment). Part 380 does not provide any assurances of confidentiality.

Issued in Washington, DC, on July 21, 2009.
Patricia Lawton,
DOT Paperwork Reduction Act Clearance Officer, Office of the Chief Information Officer.

[FR Doc. E9-17792 Filed 7-24-09; 8:45 am]

BILLING CODE 4910-9X-P